DEPARTMENT OF LABOR

Employment and Training Administration

[TA-W-53,222]

Eastman Kodak Company Film Finishing Operations Rochester, NY; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance on November 21, 2003, applicable to workers of Eastman Kodak Company, Film Finishing Operations located in Rochester, New York. The notice was published in the Federal Register on December 29, 2003 (68 FR 74979).

At the request of a company official, the Department reviewed the certification for workers of the subject firm. The workers produce 35mm consumer film and associated components.

The review shows that the company provided information in response to questions from the Department with respect to Alternative Trade Adjustment Assistance (ATAA) that were not addressed in the decision document. The Department has determined that this information together with consumer film industry information warrants ATAA certification for workers of the subject firm.

Therefore, the Department is amending the certification to reflect its finding.

The amended notice applicable to TA-W-53,222 is hereby issued as follows:

All workers of the Eastman Kodak Company, Film Finishing Operations, Rochester, New York, who became totally or partially separated from employment on or after October 10, 2002, through two years from the date of certification, are eligible to apply for adjustment assistance under Section 223 of the Trade Act of 1974, and are also eligible to apply for Alternative Trade Adjustment Assistance under Section 246 of the Trade Act of 1974, as amended.

Signed in Washington, DC, this 11th day of February 2004.
Linda G. Poole,
Certifying Officer, Division of Trade Adjustment Assistance.

[FR Doc. 04-3571 Filed 2-18-04; 8:45 am]

BILLING CODE 4510-10-P